DEPARTMENT OF ENERGY

Federal Energy Regulatory Commission

Combined Notice Of Filings #1

Take notice that the Commission received the following electric corporate filings:

Docket Numbers: EC17-11-000.

Applicants: AEP Generation Resources Inc., AEP Generating Company, Gavin Power, LLC., Darby Power, LLC., Waterford Power, LLC., Lawrenceburg Power, LLC.

Description: Joint Application for Authorization of Disposition of Jurisdictional Assets Under Section 203 of the FPA of AEP Generation Resources, Inc., et al.

Filed Date: 10/13/16.

Accession Number: 20161013-5201.

Comments Due: 5 p.m. ET 11/3/16.

Docket Numbers: EC17-12-000.

Applicants: Duquesne Light Company.

Description: Application for Approval under Section 203 of the Federal Power Act and Request for Expedited Treatment of Duquesne Light Company, et al.

Filed Date: 10/13/16.

Accession Number: 20161013-5203.

Comments Due: 5 p.m. ET 11/3/16.

Take notice that the Commission received the following exempt wholesale generator filings:

Docket Numbers: EG17-8-000.

Applicants: Moapa Southern Paiute Solar, LLC.

Description: Notice of Self-Certification of Exempt Wholesale Generator Status of Moapa Southern Paiute Solar, LLC.

Filed Date: 10/13/16.

Accession Number: 20161013-5205.

Comments Due: 5 p.m. ET 11/3/16.

Docket Numbers: EG17-9-000.

Applicants: Ocean State Power LLC.

Description: Ocean State Power LLC. Notice of Self-Certification of Exempt Wholesale Generator Status.

Filed Date: 10/13/16.

Accession Number: 20161013-5206.

Comments Due: 5 p.m. ET 11/3/16.

Take notice that the Commission received the following electric rate filings:

Docket Numbers: ER10-1910-012; ER10-1911-012.

Applicants: Duquesne Light Company, Duquesne Power, LLC.

Description: Notice of Change in Status of the Duquesne MBR Sellers.

Filed Date: 10/13/16.

Accession Number: 20161013-5212.

Comments Due: 5 p.m. ET 11/3/16.

Docket Numbers: ER13-343-007.

Applicants: CPV Maryland, LLC.

Description: Notice of Change in Status of CPV Maryland, LLC.

Filed Date: 10/13/16.

Accession Number: 20161013-5200.

Comments Due: 5 p.m. ET 11/3/16.

Docket Numbers: ER17-85-000.

Applicants: PJM Interconnection, L.L.C.

Description: § 205(d) Rate Filing: Third Revised ISA No. 2301, Queue No. AA1-079 to be effective 9/13/2016.

Filed Date: 10/13/16.

Accession Number: 20161013-5172.

Comments Due: 5 p.m. ET 11/3/16.

Docket Numbers: ER17-86-000.

Applicants: Pacific Gas and Electric Company.

Description: § 205(d) Rate Filing: Revisions to PG&E's WDT LGIA and SGIA in Compliance With Order Nos. 827 and 828 to be effective 10/17/2016.

Filed Date: 10/14/16.

Accession Number: 20161014-5002.

Comments Due: 5 p.m. ET 11/4/16.

Docket Numbers: ER17-87-000.

Applicants: NorthWestern Corporation.

Description: Compliance filing: Order Nos. 827 and 828 Combined Compliance Filing (Montana OATT) to be effective 10/14/2016.

Filed Date: 10/14/16.

Accession Number: 20161014-5032.

Comments Due: 5 p.m. ET 11/4/16.

Take notice that the Commission received the following electric securities filings:

Docket Numbers: ES17-3-000.

Applicants: Monongahela Power Company.

Description: Application for Authorization Under Section 204 of the Federal Power Act of Monongahela Power Company.

Filed Date: 10/13/16.

Accession Number: 20161013-5210.

Comments Due: 5 p.m. ET 11/3/16.

Take notice that the Commission received the following qualifying facility filings:

Docket Numbers: QF15-999-000.

Applicants: Garnet Solar Power Generation Station 1.

Description: Refund Report of Garnet Solar Power Generation Station 1 LLC.

Filed Date: 10/13/16.

Accession Number: 20161013-5180.

Comments Due: 5 p.m. ET 11/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2016.
Nathaniel J. Davis, Sr.,
Deputy Secretary.

[FR Doc. 2016-25360 Filed 10-19-16; 8:45 am]

BILLING CODE 6717-01-P